ENVIRONMENTAL PROTECTION AGENCY

[FRL-7457-1]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held March 18-20, 2003, at the Hotel Washington, Washington, DC. The CHPAC was created to advise the Environmental Protection Agency on science, regulations, and other issues relating to children's environmental health.

DATES: Tuesday, March 18 the Science/Regulatory Work Group will meet; plenary sessions will take place Wednesday, March 19 and Thursday March 20.

ADDRESSES: Hotel Washington, 515 15th Street, NW., Washington, DC.

AGENDA ITEMS: The meetings of the CHPAC are open to the public. The Science/Regulatory Work Group will meet Tuesday, March 18 from 9 a.m. to 5 p.m. The plenary CHPAC will meet on Wednesday, March 19 from 9 a.m. to 5 p.m., with a public comment period at 4:45 p.m., and on Thursday, March 20 from 9 a.m. to 12 p.m.

The plenary session will open with introductions and a review of the agenda and objectives for the meeting. Agenda items include highlights of the Office of Children's Health Protection (OCHP) activities and reports from the Science and Regulatory Work Group. Other potential agenda items include an EPA briefing on Information Quality Guidelines and an informational panel on human milk contamination.

FOR FURTHER INFORMATION CONTACT: Contact Joanne Rodman, Office of Children's Health Protection, USEPA, MC 1107A, 1200 Pennsylvania Avenue, NW., Washington, DC 20460, (202) 564-2188, rodman.joanne@epa.gov.

Dated: February 26, 2003.
Elizabeth Blackburn,
Acting Designated Federal Official.

[FR Doc. 03-4915 Filed 2-28-03; 8:45 am]

BILLING CODE 6560-50-P